Title 3—

The President

Memorandum of May 7, 2003

Report to the Congress on Tibet Negotiations

Memorandum for the Secretary of State

The provisions under the heading “Tibet Negotiations” in section 613(b) of the Tibetan Policy Act of 2002, as contained in the Foreign Relations Authorization Act, Fiscal Year 2003 (Public Law 107-228), state that a report must be prepared 180 days following enactment, and every 12 months thereafter, concerning the steps taken by the President and the Secretary to encourage the Government of the People's Republic of China to enter into dialogue with the Dalai Lama or his representatives leading to a negotiated agreement on Tibet. The report is also to address the status of any discussions between the People's Republic of China and the Dalai Lama or his representatives.

You are hereby authorized and directed to publish this memorandum in the Federal Register and to transmit the attached report to the appropriate committees of the Congress.

B

THE WHITE HOUSE,

Washington, May 7, 2003.

[FR Doc. 03-12486

Filed 5-15-03; 8:45 am]

Billing code 4710-10-P